DEPARTMENT OF AGRICULTURE

Food and Nutrition Service

Agency Information Collection Activities: Proposed Collection; Comment Request—Characteristics and Circumstances of Zero-Income SNAP Households

AGENCY: Food and Nutrition Service, USDA.

ACTION: Notice.

SUMMARY: In accordance with the Paperwork Reduction Act of 1995, this notice invites the general public and other public agencies to comment on this proposed information collection. This collection is a new collection for the Food and Nutrition Service to examine the characteristics, circumstances, program dynamics, and benefit redemption patterns of participants whose households reported zero gross income in their applications for participation in the Supplemental Nutrition Assistance Program (SNAP).

DATES: Written comments on this notice must be received on or before October 11, 2011.

ADDRESSES: Comments are invited on: (a) Whether the proposed collection of information is necessary for the proper performance of the functions of the agency, including whether the information will have practical utility; (b) the accuracy of the agency's estimate of the burden of the proposed collection of information, including the validity of the methodology and assumptions that were used; and (c) ways to enhance the quality, utility and clarity of the information to be collected.

Written comments may be sent to: Steven Carlson, Office of Research and Analysis, Food and Nutrition Service, U.S. Department of Agriculture, 3101 Park Center Drive, Room 1014, Alexandria, VA 22302. Comments may also be submitted via fax to the attention of Steven Carlson at (703) 305-2576 or via e-mail to Steve.Carlson@fns.usda.gov. Comments will also be accepted through the Federal eRulemaking Portal. Go to http://www.regulations,gov, and follow the online instructions for submitting comments electronically.

All written comments will be open for public inspection at the office of the Food and Nutrition Service during regular business hours (8:30 a.m. to 5 p.m., Monday through Friday) at 3101 Park Center Drive, Room 1014, Alexandria, Virginia 22302.

All responses to this notice will be summarized and included in the request for OMB approval. All comments will be also become a matter of public record.

FOR FURTHER INFORMATION CONTACT: Requests for additional information or copies of this information collection should be directed to Steven Carlson at 703-305-2017. Information requests submitted through e-mail should refer to the title of this proposal and/or the OMB approval number in the subject line.

SUPPLEMENTARY INFORMATION: Title: Characteristics and Circumstances of Zero-Income SNAP Households.

OMB Number:

Expiration Date of Approval: Not yet determined.

Type of Request: New collection.

Abstract: Recent data suggest that the percentage of zero-gross-income Supplemental Nutrition Assistance Program (SNAP) units has been increasing steadily over the past decade, and increasing at a higher rate than the Nation's unemployment rate. FNS is seeking to carry out a study to examine the characteristics, circumstances, program dynamics, and benefit redemption patterns of these zero income SNAP households. The study will conduct 50 in-person, semi-structured interviews with heads of zero-gross income SNAP households, with a particular focus on working-age, able-bodied adults.

Estimate of Burden: Zero-Income Household Interviews: Public burden is estimated at 90 minutes for one response each with a total of 75 hours for 50 respondents.

Type of respondent | Number of respondents | Frequency of response | Total annual responses | Average burden hours per response | Total annual hour burden
Adults (18-65 years old) | 50 | 1 | 50 | 1.5 | 75

Dated: July 29, 2011.
Audrey Rowe,
Administrator, Food and Nutrition Service.

[FR Doc. 2011-20082 Filed 8-8-11; 8:45 am]

BILLING CODE 3410-30-P